DEPARTMENT OF DEFENSE

GENERAL SERVICES ADMINISTRATION

NATIONAL AERONAUTICS AND SPACE ADMINISTRATION

48 CFR Parts 1, 36, and 53

[FAR Case 2000-608]

RIN 9000-AJ15

Federal Acquisition Regulation; New Consolidated Form for Selection of Architect-Engineer Contractors

AGENCIES: Department of Defense (DoD), General Services Administration (GSA), and National Aeronautics and Space Administration (NASA).

ACTION: Proposed rule.

SUMMARY: The Civilian Agency Acquisition Council and the Defense Acquisition Regulations Council (Councils) are proposing to amend the Federal Acquisition Regulation (FAR) to replace SF 254, Architect-Engineer and Related Services Questionnaire, and SF 255, Architect-Engineer and Related Services Questionnaire for Specific Projects, with SF 330, Architect-Engineer Qualifications. SF 330 reflects current architect-engineer practices in a streamlined and updated form, organized in data blocks that readily support automation.

DATES: Interested parties should submit comments in writing on or before December 18, 2001 to be considered in the formulation of a final rule.

ADDRESSES: Submit written comments to: General Services Administration, FAR Secretariat (MVP), 1800 F Street, NW., Room 4035, ATTN: Laurie Duarte, Washington, DC 20405. Submit electronic comments via the Internet to: farcase.2000-608@gsa.gov

Please submit comments only and cite FAR case 2000-608 in all correspondence related to this case.

FOR FURTHER INFORMATION CONTACT: The FAR Secretariat, Room 4035, GS Building, Washington, DC, 20405, at (202) 501-4755 for information pertaining to status or publication schedules. For clarification of content, contact Ms. Cecelia L. Davis, Procurement Analyst, at (202) 219-0202. Please cite FAR case 2000-608.

SUPPLEMENTARY INFORMATION:

A. Background

An interagency ad hoc committee developed SF 330. The ad hoc committee based the development of the form on Federal Facilities (FCC) Council Technical Report No. 130, “[Joint Federal-industry] Survey on the Use of SFs 254 and 255 for Architect-Engineer Qualifications,” 1996 (The Federal Facilities Council is an arm of the Congressionally charted National Academy of Sciences.) The report states that Federal agencies and the architect-engineer industry strongly endorse maintaining a structured format for presenting architect-engineer qualifications. The report also concludes that the SFs 254 and 255 need improvement.

Both Federal and industry architect-engineer practitioners believe that the forms need streamlining, as well as updating to facilitate electronic usage. Hence the SFs 254 and 255 have been consolidated into SF 330. The SF 330 reflects current architect-engineer practices in a streamlined and updated form organized in data blocks that readily support automation.

The proposed rule replaces SFs 254 and 255 with SF 330 and makes related FAR revisions in 1.106, 36.603, 36.702, 53.236-2 and 53.301-330. The proposed rule makes the following changes:

• Merges the SFs 254 and 255 into a single streamlined SF 330.

• Expands essential information about qualifications and experience such as an organizational chart of all participating firms and key personnel.

• Reflects current architect-engineer disciplines, experience types and technology.

• Eliminates information of marginal value such as a list of all offices of a firm.

• Permits limited submission length thereby reducing costs for both the architect-engineer industry and the government.

• Facilitates electronic usage by organizing the form in data blocks.

SF 330, Part II, Block 5.b. requests information based on the North American Industry Classification System (NAICS). Effective October 1, 2000, the FAR was revised to convert size standards and other programs in the FAR that are currently based on the Standard Industrial Classification (SIC) code system to NAICS (65 FR 46055). The SF 330 has been revised to comply with the aforementioned, October 1, 2000, FAR revision.

Pending public comment, this is not considered a significant regulatory action and, therefore, is not subject to review under Section 6(b) of Executive Order 12866, Regulatory Planning and Review, dated September 30, 1993. This rule is not a major rule under 5 U.S.C. 804.

B. Regulatory Flexibility Act

The Councils do not expect this proposed rule to have a significant economic impact on a substantial number of small entities within the meaning of the Regulatory Flexibility Act, 5 U.S.C. 601, et seq., because the rule only replaces two standard forms, with one consolidated streamlined standard form. An Initial Regulatory Flexibility Analysis has, therefore, not been performed. We invite comments from small businesses and other interested parties. The Councils will consider comments from small entities concerning the affected FAR Parts 1, 36, and 53 in accordance with 5 U.S.C. 610. Interested parties must submit such comments separately and should cite 5 U.S.C. 601, et seq. (FAR case 2000-608), in correspondence.

C. Paperwork Reduction Act

The Paperwork Reduction Act (Pub. L. 104-13) applies because the proposed rule contains information collection requirements. The proposed rule replaces the current SF 254, Architect-Engineer and Related Services, and the current SF 255, Architect-Engineer and Related Services Questionnaire for Specific Project, Questionnaire, with a new SF 330, Architect-Engineer Qualifications. The current SF 254 approved information collection requirement states that it takes 1 hour to complete; and the current SF 255 approved information collection requirement states that it takes 1.2 hours to complete. Experience has shown that these hours are substantially underestimated. The SF 330, Architect-Engineer Qualifications, has been developed by an interagency ad hoc committee, based on Federal Facilities (FCC) Council Technical Report No. 130, “[Joint Federal-industry] Survey on the Use of SFs 254 and 255 for Architect-Engineer Qualifications,” 1996. Accordingly, the FAR Secretariat has submitted a request for approval of a new information collection requirement concerning OMB control number 9000-00XX, New Consolidated Form for Selection of Architect-Engineer Contractors, to the Office of Management and Budget under 44 U.S.C. 3501, et seq.

Annual Reporting Burden

Public reporting burden for this collection of information is estimated to average 29 hours (25 hours for Part 1 and 4 hours for Part 2) per response, including the time for reviewing instructions, searching existing data sources, gathering and maintaining the data needed, and completing and reviewing the collection of information. Because of the tailoring required by the form for each project submittal, there are virtually no savings in burden hours by repeat submittals.

The annual reporting burden is estimated as follows:

Respondents: 5000.

Responses per respondent: 4.

Total annual responses: 20,000.

Preparation hours per response: 29.

Total response burden hours: 580,000.

D. Request for Comments Regarding Paperwork Burden

Submit comments, including suggestions for reducing this burden, not later than December 18, 2001 to: FAR Desk Officer, OMB, Room 10102, NEOB, Washington, DC 20503, and a copy to the General Services Administration, FAR Secretariat (MVP), 1800 F Street, NW., Room 4035, Washington, DC 20405.

Public comments are particularly invited on: Whether this collection of information is necessary for the proper performance of functions of the FAR, and will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Requester may obtain a copy of the justification from the General Services Administration, FAR Secretariat (MVP), Room 4035, Washington, DC 20405, telephone (202) 501-4755. Please cite OMB Control Number 9000-00XX, FAR Case 2000-608 New Consolidated Form for Selection of Architect-Engineer Contractors, in all correspondence.

List of Subjects in 48 CFR Parts 1, 36, and 53

Government procurement.

Dated: October 11, 2001.
Al Matera,
Director, Acquisition Policy Division.

Therefore, DoD, GSA, and NASA propose to amend 48 CFR parts 1, 36, and 53 as set forth below:

1. The authority citation for 48 CFR parts 1, 36, and 53 continues to read as follows:

Authority: 40 U.S.C. 486(c); 10 U.S.C. chapter 137; and 42 U.S.C. 2473(c).

PART 1—FEDERAL ACQUISITION REGULATIONS SYSTEM

1.106 [Amended]

2. Amend Section 1.106 in the table following the introductory text by removing from the column “FAR segment” the entries “SF 254” and “SF 255” and their corresponding OMB Control Numbers; and by adding, in sequential order, to the FAR segment column “SF 330” and the corresponding OMB Control Number “9000-00XX”.

PART 36—CONSTRUCTION AND ARCHITECT-ENGINEER CONTRACTS

3. Amend Section 36.603 by—

a. Revising paragraph (b) and the introductory text of paragraph (c);

b. Removing from paragraph (d) introductory text “shall” and adding “must” in its place;

c. Removing from paragraph (d)(1) “SF 254” and adding “SF 330, Part II” in its place; and

d. Removing from paragraph (d)(2) “SF's 254 and 255” and inserting “SF 330” in its place.

The revised text reads as follows:

36.603 Collecting data on and appraising firms' qualifications.

* * * * *

(b) Qualifications data. To be considered for architect-engineer contracts, a firm must file with the appropriate office or board the Standard Form 330, “Architect-Engineer Qualifications”, Part II, and when applicable, SF 330, Part I.

(c) Data files and the classification of firms. Under the direction of the parent agency, offices or permanent evaluation boards must maintain an architect-engineer qualifications data file. These offices or boards must review the SF 330 filed, and must classify each firm with respect to—

* * * * *

4. Amend Section 36.702 by revising paragraph (b) to read as follows:

36.702 Forms for use in contracting for architect-engineer services.

* * * * *

(b) The SF 330, Architect-Engineer Qualifications, shall be used to evaluate firms before awarding a contract for architect-engineer services:

(1) Use the SF 330, Part I—Contract-Specific Qualifications, to obtain information from an architect-engineer firm about its qualifications for a specific contract when the contract amount is expected to exceed the simplified acquisition threshold. Part 1 may be used when the contract amount is expected to be at or below the simplified acquisition threshold, if the contracting officer determines that its use is appropriate.

(2) Use the SF 330, Part II—General Qualifications, to obtain information from an architect-engineer firm about its general professional qualifications.

* * * * *

PART 53—FORMS

5. Amend Section 53.236-2 by revising the section heading and paragraph (b); and by removing paragraph (c) and redesignating paragraph (d) as (c). The revised text reads as follows:

53.236-2 Architect-engineer services (SFs 252, 330, and 1421).

* * * * *

(b) SF 330 (xx/01), Architect-Engineer Qualifications. SF 330 is prescribed for use in obtaining information from architect-engineer firms regarding their professional qualifications, as specified in 36.702(b)(1) and (2).

* * * * *

53.301-254 and 53.301-255 [Removed]

5. Sections 53.301-254 and 53.301-255 are removed.

53.301-330 [Added]

6. Section 53.301-330 is added as follows:

53.301-330 Architect-Engineer Qualifications.

BILLING CODE 6820-EP-P

[FR Doc. 01-26203 Filed 10-18-01; 8:45 am]

BILLING CODE 6820-EP-C